DEPARTMENT OF THE INTERIOR

National Park Service

[NPS-WASO-NAGPRA-NPS0038508; PPWOCRADN0-PCU00RP14.R50000]

Notice of Inventory Completion: California Department of Parks and Recreation, Sacramento, CA

AGENCY: National Park Service, Interior.

ACTION: Notice.

SUMMARY: In accordance with the Native American Graves Protection and Repatriation Act (NAGPRA), the California Department of Parks and Recreation has completed an inventory of human remains and associated funerary objects and has determined that there is a cultural affiliation between the human remains and associated funerary objects and Indian Tribes or Native Hawaiian organizations in this notice.

DATES: Repatriation of the human remains and associated funerary objects in this notice may occur on or after September 20, 2024.

ADDRESSES: Dr. Leslie L. Hartzell, NAGPRA Coordinator, California Department of Parks and Recreation, P.O. Box 942896, Sacramento, CA 94296-0001, telephone (916) 425-8016, email Leslie.Hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in its inventory or related records. The National Park Service is not responsible for the determinations in this notice.

Abstract of Information Available

Based on available information, human remains representing, at least, 11 individuals have been identified. The 2,361 lots of associated funerary objects are one lot of ammo, one lot of antenna fragments, one lot of antler tines, one lot of bobby pin, one lot of boot heels, one lot of car parts, one lot of combs, one lot of concrete, one lot of concrete fragments, one lot of copper fragments, one lot of doughnut stones, one lot of earrings, one lot of electrical parts, one lot of fire fractured stones, one lot of flake tools, one lot of hull fragments, one lot of marbles, one lot of melted glass, one lot of modified steatite, one lot of ornaments, one lot of pennies, one lot of pull tops, one lot of rivets, one lot of slag, one lot of spark plugs, one lot of springs, one lot of steatite, one lot of tacks, one lot of tin fragments, one lot of tire weights, one lot of wood, one lot of wrenches, two lot of washers, two lots of awls, two lots of bottle caps, two lots of bricks, two lots of drills, two lots of leather, two lots of pestles, two lots of pigments, two lots of shingle fragments, three lots of charmstones, three lots of ochre, four lots of asphalt, four lots of bullet casings, four lots of buttons, four lots of hammerstones, four lots of rubber fragments, five lots of baked clay, five lots of foil, five lots of nuts and bolts, six lots of seeds, six lots of unifaces, seven lots of metates, seven lots of sherds, eight lots of bowls, eight lots of cobbles, nine lots of charcoal, nine lots of nails, nine lots of wire, 10 lots of bottles, 10 lots of quartz crystals, 10 lots of rocks, 11 lots of ceramics, 12 lots of unknown, 13 lots of manos, 13 lots of mineral samples, 20 lots of metal, 26 lots of nails, 26 lots of plastic fragments, 28 lots of steatite, 29 lots of bifaces, 35 lots of cores, 35 lots of glass fragments, 36 lots of bone tools, 39 lots of bones, 68 lots of beads, 80 lots of food remains, 85 lots of glass vessels, 93 lots of scrapers, 166 lots of projectile points, 676 lots of debitage, and 680 lots of flakes.

This village site and cemetery are located in Mariposa County, near the City of Mariposa, CA and were excavated in 1963 and 1965 by Columbia Junior College (CJC) students and California Youth Authority wards under the direction of Francis A. Riddell (California Department of Parks and Recreation) and Robert N. Davidson (CJC). In 1996, the village was once again excavated by Caltrans archaeologists as part of a project to widen State Route 39 and improve drainage. The collection was curated at California State University, Sacramento until it was transferred to the California Department of Parks and Recreation in 2013.

The age of this burial is estimated to be between 1000 and 1500 A.D. Linguistic evidence for the Miwok occupation of the Sierra Nevada indicates that they came into the area from the Central Valley after the beginning of the Late Horizon of California prehistory, approximately 500 A.D. No lineal descendant has been identified. Geographic affiliation is consistent with the historically documented Southern Sierra Miwuk. The associated funerary objects are consistent with the period when the site would have been occupied by the Southern Sierra Miwuk. The history of the formation of California Indian rancherias in the Central Valley and Sierra Nevada foothill regions of California reveal that descendants of the historical Southern Sierra Miwuk were ultimately dispersed to the federally recognized Miwok rancherias.

Cultural Affiliation

Based on the information available and the results of consultation, cultural affiliation is reasonably identified by the geographical location or acquisition history of the human remains and associated funerary objects described in this notice.

Determinations

The California Department of Parks and Recreation, has determined that:

• The human remains described in this notice represent the physical remains of 11 individuals of Native American ancestry.

• The 2,361 lots of objects described in this notice are reasonably believed to have been placed intentionally with or near individual human remains at the time of death or later as part of the death rite or ceremony.

• There is a connection between the human remains and associated funerary objects described in this notice and the Buena Vista Rancheria of Me-Wuk Indians of California; Chicken Ranch Rancheria of Me-Wuk Indians of California; Northfork Rancheria of Mono Indians of California; Picayune Rancheria of Chukchansi Indians of California; and the Tuolumne Band of Me-Wuk Indians of the Tuolumne Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 20, 2024. If competing requests for repatriation are received, the California Department of Parks and Recreation must determine the most appropriate requestor prior to repatriation. Requests for joint repatriation of the human remains and associated funerary objects are considered a single request and not competing requests. The California Department of Parks and Recreation is responsible for sending a copy of this notice to the Indian Tribes and Native Hawaiian organizations identified in this notice.

Authority: Native American Graves Protection and Repatriation Act, 25 U.S.C. 3003, and the implementing regulations, 43 CFR 10.10.

Dated: August 7, 2024.
Melanie O'Brien,
Manager, National NAGPRA Program.

[FR Doc. 2024-18686 Filed 8-20-24; 8:45 am]

BILLING CODE 4312-52-P